DEPARTMENT OF THE INTERIOR

National Park Service

[NPS-WASO-NAGPRA-10743; 2200-1100-665]

Notice of Inventory Completion: New York University College of Dentistry, New York, NY

AGENCY: National Park Service, Interior.

ACTION: Notice.

SUMMARY: The New York University College of Dentistry has completed an inventory of human remains, in consultation with the appropriate Indian tribes, and has determined that there is no cultural affiliation between the remains and any present-day Indian tribe. Representatives of any Indian tribe that believes itself to be culturally affiliated with the human remains may contact the New York University College of Dentistry. Disposition of the human remains to the Indian tribes stated below may occur if no additional requestors come forward.

DATES: Representatives of any Indian tribe that believes it has a cultural affiliation with the human remains should contact the New York University College of Dentistry at the address below by August 20, 2012.

ADDRESSES: Dr. Louis Terracio, New York University College of Dentistry, 345 East 24th St, New York, NY 10010, telephone (212) 998-9917.

SUPPLEMENTARY INFORMATION: Notice is here given in accordance with the Native American Graves Protection and Repatriation Act (NAGPRA), 25 U.S.C. 3003, of the completion of an inventory of human remains in the possession of the New York University College of Dentistry. The human remains were removed from Rincon, in Santa Cruz County, CA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the New York University College of Dentistry professional staff in consultation with representatives of the Big Sandy Rancheria of Mono Indians of California; Cold Springs Rancheria of Mono Indians of California; Northfork Rancheria of Mono Indians of California; Picayune Rancheria of Chukchansi Indians of California; Santa Rosa Indian Community of the Santa Rosa Rancheria, California; Table Mountain Rancheria of California; Tule River Indian Tribe of the Tule River Reservation, California; and the Tuolumne Band of Me-Wuk Indians of the Tuolumne Rancheria of California (hereafter referred to as “The Tribes”).

History and Description of the Remains

At an unknown date, human remains representing, at minimum, one individual were removed from an unknown site in Rincon, in Santa Cruz County, CA by an unknown individual. At an unknown date, the remains were catalogued into the Department of Physical Anthropology, Museum of the American Indian. In 1956, the remains were transferred to Dr. Theodore Kazamiroff, New York University College of Dentistry. No known individuals were identified. No associated funerary objects are present.

Determinations Made by the New York University College of Dentistry

Officials of the New York University College of Dentistry have determined that:

• Based on catalog information and forensic examination, the human remains are Native American.

• Pursuant to 25 U.S.C. 3001(2), a relationship of shared group identity cannot be reasonably traced between the Native American human remains and any present-day Indian tribe.

• According to final judgments of the Indian Claims Commission, the land from which the Native American human remains were removed is the aboriginal land of the southern Yokut and western Mono, who are represented today by The Tribes.

• The unratified treaty of 1851 indicates that the land from which the Native American human remains were removed is the aboriginal land of the southern Yokut and western Mono, who are represented today by The Tribes.

• Pursuant to 25 U.S.C. 3001(9), the human remains described in this notice represent the physical remains of one individual of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact Dr. Louis Terracio, New York University College of Dentistry, 345 East 24th St, New York, NY 10010, telephone (212) 998-9917, before August 20, 2012. Disposition of the human remains to The Tribes may proceed after that date if no additional requestors come forward.

The New York University College of Dentistry is responsible for notifying The Tribes that this notice has been published.

Dated: June 28, 2012.
Sherry Hutt,
Manager, National NAGPRA Program.

[FR Doc. 2012-17629 Filed 7-18-12; 8:45 am]

BILLING CODE 4312-50-P